DEPARTMENT OF ENERGY

Federal Energy Regulatory Commission

[Docket No. CP03-39-000]

Kinder Morgan Interstate Gas Transmission, LLC; Notice of Availability of the Environmental Assessment for the Proposed Cheyenne Market Center Project

August 5, 2003.

The staff of the Federal Energy Regulatory Commission (FERC or Commission) has prepared an environmental assessment (EA) on the natural gas pipeline facilities proposed by Kinder Morgan Interstate Gas Transmission, LLC (Kinder Morgan) in the above-referenced docket.

The EA was prepared to satisfy the requirements of the National Environmental Policy Act. The staff concludes that approval of the proposed project, with appropriate mitigating measures, would not constitute a major Federal action significantly affecting the quality of the human environment.

The EA assesses the potential environmental effects of the construction and operation of the proposed Cheyenne Market Center Project facilities including:

Compressor Facilities

• Rockport (Cheyenne Hub) Compressor Station—install two additional 1,680-horsepower (hp) compressor units within the Rockport Compressor Station in Weld County, Colorado.

• The new Kimball Junction Compressor Station—install two 1,151-hp compressor units at the existing Kimball Junction Interconnect (interconnect between Kinder Morgan's 16-inch-diameter Rockport Lateral, 20-inch-diameter Pony Express Pipeline, and 12-inch-diameter Weld County to Huntsman Pipeline) in Kimball County, Nebraska.

• Huntsman Compressor Station—install two additional 3,550-hp compressor units in a new building immediately adjacent to the northern side of the existing compressors, and install central injection and withdrawal meters within the confines of the Huntsman Compressor Station. This station is located within the Huntsman Storage Field, in Cheyenne County, Nebraska.

Injection/Withdrawal Wells

• Drill ten new injection/withdrawal wells at the Huntsman Storage Field. The proposed well field design configuration is to drill these wells directionally (diverging directionally from a vertical well bore) from two new multiple wellhead surface location sites. Six wells would be drilled at Pad #1, located west and adjacent to the Huntsman Storage Field Well #9. Four wells would be drilled at Pad #2 in the northeast corner of the Huntsman Compressor Station.

Storage Field Lines

• Install about 2,000 feet of 12-inch-diameter pipeline loop originating at the proposed multiple wellhead Pad #1 site and terminating at the Huntsman Compressor Station inlet header facilities. This new 12-inch-diameter pipeline would loop a 12-inch-diameter pipeline from Huntsman Storage Field Well #9 to the compressor station.

• Install about 1,800 feet of 8-inch-diameter pipeline loop originating at the proposed multiple wellhead Pad #2 site and terminating at the Huntsman Compressor Station inlet header facilities. This new 8-inch-diameter pipeline would start at Pad #2, tie into the existing 8-inch-diameter discharge pipeline at Huntsman Storage Field Well #23 and loop the pipeline back to the compressor station.

Auxiliary Facilities

• Station Supervisory Control Systems—install computer-based supervisory-type process control systems at the Huntsman and Rockport Compressor Stations.

• Check Meter and Flow Control—install a check meter and bi-directional flow control assembly, with appurtenances, at the existing Kimball Junction Interconnect located between Kinder Morgan's 16-inch-diameter Rockport Lateral and 20-inch-diameter Pony Express Pipeline.

• Valves—install control valves at the existing Kinder Morgan/Colorado Interstate Gas Company (CIG) Weld County Measurement Station in Weld County, Colorado.

• Pigging and Gas Cleaning Facilities—install pigging facilities on the new 12-inch-diameter storage field pipeline and, depending upon the moisture content of the gas, install either a gas scrubber, coalesce filter, or gas separator on the new 8-inch-diameter storage field pipeline.

• Office Building—construct an office building with septic system and water well at the Rockport Compressor Station.

The proposed project would be an incremental expansion of Kinder Morgan's existing Huntsman Storage Facilities. The project would create incremental storage capacity for up to 6,000,000 dekatherms (Dth), with an associated injection capability of about 38,400 Dth per day (Dthd) and an associated withdrawal deliverability of about 62,400 Dthd. Through the new facilities, Kinder Morgan proposes to offer a Cheyenne Market Center Service that would allow for the injection, storage, and withdrawal of gas supplies received and delivered at the Cheyenne Hub using facilities incremental to, and separate from, existing Kinder Morgan transportation or storage services. The proposed project would provide customers with additional flexibility to store gas and utilize receipt and delivery points on short notice.

The EA has been placed in the public files of the FERC. A limited number of copies of the EA are available for distribution and public inspection at: Federal Energy Regulatory Commission, Public Reference and Files Maintenance Branch, 888 First Street, NE., Room 2A, Washington, DC 20426, (202) 502-8371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send an original and two copies of your comments to:

Secretary, Federal Energy Regulatory Commission, 888 First St., NE., Room 1A, Washington, DC 20426.

• Label one copy of the comments for the attention of the Gas Branch 1, PJ11.1.

• Reference Docket No. CP03-39-000; and

• Mail your comments so that they will be received in Washington, DC on or before August 30, 2003.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

Comments will be considered by the Commission but will not serve to make the commentor a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance with FERRIS, the FERRIS helpline can be reached at 1-866-208-3676, TTY (202) 502-8659 or at FERCOnlineSupport@ferc.gov. The FERRIS link on the FERC Internet Web site also provides access to the texts of formal documents issued by the Commission, such as orders, notices, and rulemakings.

In addition, the Commission now offers a free service called eSubscription which allows you too keep track of all formal issuances and submittals in specific dockets. This can reduce the amount of time you spend researching proceedings by automatically providing you with notification of these filings, document summaries and direct links to the documents. Go to http://www.ferc.gov/esubscribenow.htm.

Magalie R. Salas,
Secretary.

[FR Doc. 03-21375 Filed 8-20-03; 8:45 am]

BILLING CODE 6717-01-P